DEPARTMENT OF THE INTERIOR

National Park Service

[NPS-WASO-NAGPRA-NPS0035008; PPWOCRADN0-PCU00RP14.R50000]

Notice of Intent To Repatriate Cultural Items: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology (PMAE), Harvard University intends to repatriate certain cultural items that meet the definition of unassociated funerary objects and that have a cultural affiliation with the Indian Tribes or Native Hawaiian organizations in this notice. The cultural items were removed from Hale and Tuscaloosa Counties, Alabama.

DATES: Repatriation of the cultural items in this notice may occur on or after January 17, 2023.

ADDRESSES: Patricia Capone, Peabody Museum of Archaeology and Ethnology, Harvard University, 11 Divinity Avenue, Cambridge, MA 02138, telephone (617) 496-3702, email pcapone@fas.harvard.edu.

SUPPLEMENTARY INFORMATION: This notice is published as part of the National Park Service's administrative responsibilities under NAGPRA. The determinations in this notice are the sole responsibility of the PMAE. The National Park Service is not responsible for the determinations in this notice. Additional information on the amendments and determinations in this notice, including the results of consultation, can be found in the inventory or related records held by the PMAE.

Description

The eight cultural items were removed from the Moundville archeological site in Hale and Tuscaloosa Counties, AL. The eight unassociated funerary objects are two discoidal stones, one bird-head effigy, three stone effigy pipes, one incised palette, and one lot of shell beads. The PMAE does not have a record of human remains from Moundville being at PMAE.

On an unknown date, Professor N.T. Lupton collected a discoidal stone from a pot in a mound in Carthage, AL. The PMAE does not have a record of the associated pot being at PMAE. The Moundville archeological site was referred to as “the Carthage group” through the second half of the nineteenth century. This funerary object was donated by Professor N.T. Lupton to the PMAE in October 1877.

On an unknown date in or around 1860, O.T. Prince collected one bird-head effigy from near Moundville, AL. On an unknown date in or around 1860, a possibly enslaved worker of O.T. Prince or O.T. Prince collected three stone effigy pipes, found while digging a ditch near Mound M of the Moundville site, AL. On an unknown date, the family of O.T. Prince collected one engraved stone disc (“The Willoughby Disc”) from the base of a small mound near Moundville, Carthage, AL. On an unknown date, the family of O.T. Prince collected one discoidal stone and one lot of shell beads from near Moundville, Carthage, AL. O.T. Prince was the landowner of a portion of the Moundville-site property from 1857-1862. Given this, it is likely that these localities refer specifically to the mounds or fields between mounds on the Prince estate at the Moundville site. On an unknown date, these seven unassociated funerary objects were acquired by F.E. Hyde and Charles P. Bowditch and donated by Mr. Hyde and Mr. Bowditch to the PMAE on an unknown date in 1896.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, biological information, geographical information, historical information, kinship, linguistics, oral tradition, and other relevant information and/or expert opinion.

Determinations

Pursuant to NAGPRA and its implementing regulations, and after consultation with the appropriate Indian Tribes and Native Hawaiian organizations, the PMAE has determined that:

• The eight cultural items described above are reasonably believed to have been placed with or near individual human remains at the time of death or later as part of the death rite or ceremony and are believed, by a preponderance of the evidence, to have been removed from a specific burial site of a Native American individual.

• There is a relationship of shared group identity that can be reasonably traced between the cultural items and the present-day Muskogean speaking Tribes: Alabama-Coushatta Tribe of Texas (previously listed as Alabama-Coushatta Tribes of Texas); Alabama-Quassarte Tribal Town; Coushatta Tribe of Louisiana; Jena Band of Choctaw Indians; Seminole Tribe of Florida (previously listed as Seminole Tribe of Florida (Dania, Big Cypress, Brighton, Hollywood, & Tampa Reservations)); The Chickasaw Nation; The Choctaw Nation of Oklahoma; The Muscogee (Creek) Nation; The Seminole Nation of Oklahoma; and the Thlopthlocco Tribal Town.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 17, 2023. If competing requests for repatriation are received, the PMAE must determine the most appropriate requestor prior to repatriation. Requests for joint repatriation of the cultural items are considered a single request and not competing requests. The PMAE is responsible for sending a copy of this notice to the Indian Tribes and Native Hawaiian organizations identified in this notice.

Authority: Native American Graves Protection and Repatriation Act, 25 U.S.C. 3003, and the implementing regulations, 43 CFR 10.8, 10.10, and 10.14.

Dated: December 7, 2022.
Melanie O'Brien,
Manager, National NAGPRA Program.

[FR Doc. 2022-27182 Filed 12-14-22; 8:45 am]

BILLING CODE 4312-52-P